FEDERAL COMMUNICATIONS COMMISSION

47 CFR Part 1

[WT Docket No. 15-180; DA 16-900]

First Amendment to Collocation Agreement

AGENCY: Federal Communications Commission.

ACTION: Final rule; announcement of effective date.

SUMMARY: In this document, the Wireless Telecommunications Bureau (WTB or Bureau) of the Federal Communications Commission (FCC or Commission) announces that the Office of Management and Budget (OMB) has approved, for a period of three years, certain information collection requirements associated with Stipulation VII.C of the amendment to Appendix B in part 1 of the Commission's rules. This notice is consistent with the final rule notice published in the Federal Register on August 29, 2016, announcing the First Amendment to the Collocation Agreement amending the Nationwide Programmatic Agreement for the Collocation of Wireless Antennas (Collocation Agreement), which stated that the Commission would publish a document in the Federal Register announcing OMB approval and the effective date of the new information collection requirements.

DATES: 47 CFR part 1, Appendix B, Stipulation VII.C, published at 81 FR 59146, August 29, 2016, is effective on September 1, 2017.

FOR FURTHER INFORMATION CONTACT: For additional information, contact Cathy Williams by email at Cathy.Williams@fcc.gov and telephone at (202) 418-2918.

SUPPLEMENTARY INFORMATION: This document announces that, on July 14, 2017, OMB approved certain information collection requirements contained in the Commission's First Amendment to the Collocation Agreement, DA 16-900, published at 81 FR 59146, August 29, 2016. The OMB Control Number is 3060-1238. The Commission publishes this notice as an announcement of the effective date of these information collection requirements.

Synopsis

As required by the Paperwork Reduction Act of 1995 (44 U.S.C. 3507), the Commission is notifying the public that it received OMB approval on July 14, 2017, for the new information collection requirements contained in the Commission's rules at 47 CFR part 1, Appendix B, Stipulation VII.C. Under 5 CFR part 1320, an agency may not conduct or sponsor a collection of information unless it displays a current, valid OMB Control Number. No person shall be subject to any penalty for failing to comply with a collection of information subject to the Paperwork Reduction Act that does not display a current, valid OMB Control Number. The OMB Control Number is 3060-1238. The foregoing notice is required by the Paperwork Reduction Act of 1995, Public Law 104-13, October 1, 1995, and 44 U.S.C. 3507.

The total annual reporting burdens and costs for the respondents are as follows:

OMB Control Number: 3060-1238.

OMB Approval Date: July 14, 2017.

OMB Expiration Date: July 31, 2020.

Title: First Amendment to Nationwide Programmatic Agreement for the Collocation of Wireless Antennas.

Form Number: N/A.

Respondents: Business or other for-profit entities, not-for-profit institutions, and State, local, or Tribal governments.

Number of Respondents and Responses: 71 respondents; 765 responses.

Estimated Time per Response: 1 hour-5 hours.

Frequency of Response: Third-party disclosure reporting requirement.

Obligation to Respond: Required to obtain or retain benefits. Statutory authority for this information collection is contained in sections 1, 2, 4(i), 7, 301, 303, 309, and 332 of the Communications Act of 1934, as amended, 47 U.S.C. 151, 152, 154(i), 157, 301, 303, 309, 332, and section 106 of the National Historic Preservation Act of 1966, 54 U.S.C. 306108.

Total Annual Burden: 2,869 hours.

Total Annual Cost: $82,285.

Nature and Extent of Confidentiality: No known confidentiality between third parties.

Privacy Act Impact Assessment: There are no impacts under the Privacy Act.

Needs and Uses: The Commission requested OMB approval for new disclosure requirements pertaining to the First Amendment to Nationwide Programmatic Agreement for the Collocation of Wireless Antennas (First Amendment) to address the review of deployments of small wireless antennas and associated equipment under section 106 of the National Historic Preservation Act (NHPA) (54 U.S.C. 306108 (formerly codified at 16 U.S.C. 470f). The FCC, the Advisory Council on Historic Preservation (Council), and the National Conference of State Historic Preservation Officers (NCSHPO) agreed to amend the Nationwide Programmatic Agreement for the Collocation of Wireless Antennas (Collocation Agreement) to account for the limited potential of small wireless antennas and associated equipment, including Distributed Antenna Systems (DAS) and small cell facilities, to affect historic properties. The Collocation Agreement addresses historic preservation review for collocations on existing towers, buildings, and other non-tower structures. Under the Collocation Agreement, most antenna collocations on existing structures are excluded from section 106 historic preservation review, with a few exceptions defined to address potentially problematic situations. On August 3, 2016, the Commission's Wireless Telecommunications Bureau, ACHP, and NCSHPO finalized and executed the First Amendment to the Collocation Agreement, to tailor the Section 106 process for small wireless deployments by excluding deployments that have minimal potential for adverse effects on historic properties.

The following are the information collection requirements in connection with the amended provisions of Appendix B of Part 1 of the Commission's rules (47 CFR pt.1, App. B):

• Stipulation VII.C of the amended Collocation Agreement provides that proposals to mount a small antenna on a traffic control structure (i.e., traffic light) or on a light pole, lamp post or other structure whose primary purpose is to provide public lighting, where the structure is located inside or within 250 feet of the boundary of a historic district, are generally subject to review through the section 106 process. These proposed collocations will be excluded from such review on a case-by-case basis, if (1) the collocation licensee or the owner of the structure has not received written or electronic notification that the FCC is in receipt of a complaint from a member of the public, an Indian Tribe, a SHPO or the Council, that the collocation has an adverse effect on one or more historic properties; and (2) the structure is not historic (not a designated National Historic Landmark or a property listed in or eligible for listing in the National Register of Historic Places) or considered a contributing or compatible element within the historic district, under certain procedures. These procedures require that applicant must request in writing that the SHPO concur with the applicant's determination that the structure is not a contributing or compatible element within the historic district, and the applicant's written request must specify the traffic control structure, light pole, or lamp post on which the applicant proposes to collocate and explain why the structure is not a contributing element based on the age and type of structure, as well as other relevant factors. The SHPO has thirty days from its receipt of such written notice to inform the applicant whether it disagrees with the applicant's determination that the structure is not a contributing or compatible element within the historic district. If within the thirty-day period, the SHPO informs the applicant that the structure is a contributing element or compatible element within the historic district or that the applicant has not provided sufficient information for a determination, the applicant may not deploy its facilities on that structure without completing the Section 106 review process. If, within the thirty-day period, the SHPO either informs the applicant that the structure is not a contributing or compatible element within the historic district, or the SHPO fails to respond to the applicant within the thirty-day period, the applicant has no further Section 106 review obligations, provided that the collocation meets the certain volumetric and ground disturbance provisions. The First Amendment to the Collocation Agreement establishes new exclusions from the section 106 review process for physically small deployments like DAS and small cells, fulfilling a directive in the Commission's Infrastructure Report and Order, 80 FR 1238, Jan. 8, 2015, to further streamline review of these installations. These new exclusions will reduce the cost, time, and burden associated with deploying small facilities in many settings, and provide opportunities to increase densification at low cost and with very little impact on historic properties. Facilitating these deployments thus directly advances efforts to roll out 5G service in communities across the country.

Federal Communications Commission.
Amy Brett,
Associate Chief, Competition and Infrastructure Policy Division, Wireless Telecommunications Bureau.

[FR Doc. 2017-18565 Filed 8-31-17; 8:45 am]

BILLING CODE 6712-01-P